DEPARTMENT OF ENERGY

Federal Energy Regulatory Commission

Combined Notice of Filings #1

Take notice that the Commission received the following electric rate filings:

Docket Numbers: ER13-450-000.

Applicants: Dominion Energy Manchester Street, Inc.

Description: Dominion Energy Manchester Street, Inc. submits tariff filing per 35.1: New Baseline Refile to be effective 11/27/2012.

Filed Date: 11/26/12.

Accession Number: 20121126-5031.

Comments Due: 5 p.m. ET 12/17/12.

Docket Numbers: ER13-451-000.

Applicants: Florida Power Corporation.

Description: Rate Schedule No. 197 of Florida Power Corporation to be effective 12/28/2012.

Filed Date: 11/26/12.

Accession Number: 20121126-5085.

Comments Due: 5 p.m. ET 12/17/12.

Docket Numbers: ER13-452-000.

Applicants: Florida Power Corporation.

Description: Rate Schedule No. 220 of Florida Power Corporation to be effective 1/1/2013.

Filed Date: 11/26/12.

Accession Number: 20121126-5086.

Comments Due: 5 p.m. ET 12/17/12.

Take notice that the Commission received the following electric securities filings:

Docket Numbers: ES13-9-000.

Applicants: Montana Alberta Tie Ltd, MATL LLP.

Description: Montana Alberta Tie Ltd, et al. submits Supplement to Application.

Filed Date: 11/21/12.

Accession Number: 20121121-5222.

Comments Due: 5 p.m. ET 12/5/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2012.
Nathaniel J. Davis, Sr.,
Deputy Secretary.

[FR Doc. 2012-29197 Filed 12-3-12; 8:45 am]

BILLING CODE 6717-01-P